Proclamation 8576 of October 1, 2010

National Energy Awareness Month, 2010

By the President of the United States of America

A Proclamation

America’s energy resources are inextricably linked to our continued prosperity, security, and environmental health. When it comes to our Nation’s energy future, we face fundamental choices between action and inaction, between embracing the possibilities of a new clean energy economy and settling for the status quo, and between leading the world in clean energy and lagging behind. We must choose wisely and invest in clean energy technologies to position our country for a sustainable future, create new jobs, improve the health of our environment, and lay the foundation for our long-term economic security and prosperity.

The time to act is now. Every year our overdependence on fossil fuels sends billions of dollars overseas to buy foreign oil instead of supporting American workers and farmers, rewarding innovation, and developing clean energy industries here at home. Fossil fuel pollution has already begun to change our climate, posing a grave and growing danger to our economy, our national security, and our environment.

Over the last year and a half, we have taken unprecedented action to build a clean energy economy. The American Recovery and Reinvestment Act made a $90 billion down-payment on a clean energy future for our country. This critical investment is expanding manufacturing capacity for clean energy technologies; advancing vehicle and fuel technologies; spurring the development of renewable fuels; and catalyzing progress towards a bigger, better, smarter electric grid; all while creating new jobs that cannot be shipped overseas. My Administration also set tough new fuel-economy standards and the first greenhouse gas emissions standards for cars and light trucks. Additionally, I signed an Executive Order that empowers the Federal Government to lead by example by cutting its energy use. As our Nation’s single largest energy consumer, the Federal Government has an obligation to improve its energy efficiency, increase its use of renewable energy, cut greenhouse gas pollution, and leverage its purchasing power to advance a clean energy economy.

Across the country, citizens themselves are helping to lead the way. In small towns and city neighborhoods, on college campuses and in houses of worship, in office buildings and on the shop floor, Americans are standing up and building a clean energy economy together through community information, education, and action.

This progress must mark the start, not the end, of our efforts. Today, countries around the world are competing to create the clean energy economy and jobs of tomorrow, and the country that harnesses the power of clean energy will lead the global economy. As a Nation of scientists and engineers, farmers and entrepreneurs, we must continue to invest in clean, domestic sources of energy, harness the innovation of our brightest minds, promote our world-leading industries, and find lasting solutions to our energy challenges.

If we seize this moment, we stand to strengthen our economy, enhance our national security, and preserve our environment. During National Energy Awareness Month, let us commit to embarking on a new course to achieve our clean energy future.

NOW, THEREFORE, I, BARACK OBAMA, President of the United States of America, by virtue of the authority vested in me by the Constitution and the laws of the United States, do hereby proclaim October 2010 as National Energy Awareness Month. I call upon the citizens of the United States to recognize this month by making clean energy choices that will help build a stronger Nation, a more robust economy, and a healthier environment for our children.

IN WITNESS WHEREOF, I have hereunto set my hand this first day of October, in the year of our Lord two thousand ten, and of the Independence of the United States of America the two hundred and thirty-fifth.

[FR Doc. 2010-25576

Filed 10-7-10; 8:45 am]

Billing code 3195-W1-P